POSTAL SERVICE

Reassignment of Post Office Box Section 98025 to Competitive Fee Group, and of Sections 87325 and 87326 to Market Dominant Fee Groups

AGENCY: Postal Service™.

ACTION: Notice.

SUMMARY: The Postal Service hereby provides notice that Post Office® Box service for ZIP Code® 98025 is reassigned from its market dominant fee group to a competitive fee group, and Post Office Box services for ZIP Code 87325 and ZIP Code 87326 are reassigned from their competitive fee groups to market dominant fee groups.

DATES: Effective date: August 15, 2016.

FOR FURTHER INFORMATION CONTACT: Direct questions or comments to: Joyce Fleming (joycelyn.b.robinsonfleming @usps.gov), 202-268-7540; or David Rubin (david.h.rubin@usps.gov), 202-268-2986.

SUPPLEMENTARY INFORMATION: Locations providing Post Office Box service are assigned to fee groups and classified as competitive or market dominant based upon the Post Office location and other criteria.

In May 2011, a Request of the United States Postal Service was filed with the Postal Regulatory Commission (PRC) to transfer approximately 6,800 P.O. Box locations from market dominant to competitive fee groups. At that time, the Postal Service advised the PRC that a Federal Register notice would be filed when any future P.O. Box locations are transferred.

While the Post Office serving ZIP Code 98025 was inadvertently excluded from previous PRC filings, the customers at that location have had a qualified competitive choice since the time of the 2011 filing. The Box Section 98025 facility, in Hobart, Washington, serves approximately 424 P.O. Box customers, and the location meets the criteria to be classified as and assigned to a competitive fee group. Therefore, the Postal Service has reassigned Hobart, Washington, Box Section ZIP Code 98025 from Market Dominant Fee Group 4 to Competitive Fee Group 34.

Conversely, the Post Offices serving ZIP Codes 87325 and 87326 were inadvertently included in a previous PRC filing, but did not have a qualified competitor at the time of the 2011 filing. The Box Section 87325 in Tohatchi, New Mexico, and the Box Section 87326 in Vanderwagen, New Mexico, do not meet the criteria to be classified as and assigned to a competitive fee group. Therefore, the Postal Service has reassigned Tohatchi, New Mexico, Box Section ZIP Code 87325 from Competitive Fee Group 35 to Market Dominant Fee Group 5; and has reassigned Vanderwagen, New Mexico, Box Section ZIP Code 87326 from Competitive Fee Group 40 to Market Dominant Fee Group 3.

Documents pertinent to this action are available at www.prc.gov, Docket No. MC2011-25.

Stanley F. Mires,
Attorney, Federal Compliance.

[FR Doc. 2016-15640 Filed 6-30-16; 8:45 am]

BILLING CODE 7710-12-P